NATIONAL SCIENCE FOUNDATION

Adivisory Committee for mathematical and Physical Sciences; Notice of Meeting

In accordance with Federal Advisory Committee Act (Pub. L. 92-463, as amended), the National Science Foundation announces the following meeting:

Name: Advisory Committee for Mathematical and Physical Sciences (66).

Date/Time: April 3, 2003, 8 a.m.-6 p.m. April 4, 2004, 8 a.m.-3 p.m.

Place: National Science Foundation, 4201 Wilson Boulevard, Arlington, VA 22230, Room 1235.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda:

Briefing on current status of Directorate.

Update and Discussion of MPS Long-term Planning Activities.

Review by MPSAC of Committee of Visitors Report for The Division of Physics.

Meeting of MPSAC with Divisions within MPS Directorate.

Summary Minutes: May be obtained from the contact person listed above.

Dated: March 4, 2003.
Susanne E. Bolton,
Committee Management Officer.

[FR Doc. 03-5426 Filed 3-6-03; 8:45 am]

BILLING CODE 7555-01-M